DEPARTMENT OF AGRICULTURE

Forest Service

Fresno County Resource Advisory Committee

AGENCY: Forest Service, USDA.

ACTION: Notice of meeting.

SUMMARY: The Fresno County Resource Advisory Committee will meet in Clovis, California. The purpose of the meeting is to discuss and to recommend project proposals for FY2003 funds regarding the Secure Rural Schools and Community Self-Determination Act of 2000 (Pub. L. 106-393) for expenditure of Payments to States Fresno County Title II Funds.

DATES: The meeting will be held on August 19, 2003 from 6:30 p.m. to 9:30 p.m.

ADDRESSES: The meeting will be held at the Sierra National Forest, Forest Supervisor's Office, 1600 Tollhouse Road, Clovis, California 93611-0532. Send written comments to Rick Larson, Fresno County Resource Advisory Committee Coordinator, c/o Sierra National Forest, High Sierra Ranger District, 29688 Auberry Road, Prather, CA 93651 or electronically to relarson@fs.fed.us.

FOR FURTHER INFORMATION CONTACT: Rick Larson, Fresno County Resource Advisory Committee Coordinator, (559) 855-5355 ext. 3319.

SUPPLEMENTARY INFORMATION: The meeting is open to the public. Committee discussion is limited to Forest Service staff and Committee members. However, persons who wish to bring Payments to States Fresno County Title II project matters to the attention of the Committee may file written statements with the Committee staff before or after the meeting. Public sessions will be provided and individuals who made written requests by August 19, 2003 will have the opportunity to address the Committee at those sessions. Agenda items to be covered include: (1) Allocation of FY2003 resource funding; (2) Call for new projects; (3) Establish schedule for report back from project recipients; (4) Public comment.

Dated: July 1, 2003.
Ray Porter,
District Ranger.

[FR Doc. 03-17697 Filed 7-11-03; 8:45 am]

BILLING CODE 3410-11-M